DEPARTMENT OF DEFENSE

Office of the Secretary

[Transmittal No. 19-61]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-61 with attached Policy Justification.

Dated: December 19, 2019.
Aaron T. Siegel,
Alternate OSD Federal Register Liaison Officer, Department of Defense.

BILLING CODE 5001-06-P

BILLING CODE 5001-06-C

Transmittal No. 19-61

Notice of Proposed Issuance of Letter of Offer Pursuant to Section 36(b)(1) of the Arms Export Control Act, as amended

(i) Prospective Purchaser: Government of Bahrain

(ii) Total Estimated Value:

Major Defense Equipment * | $ 0 million
Other | $150 million
TOTAL | $150 million

(iii) Description and Quantity or Quantities of Articles or Services under Consideration for Purchase:

Major Defense Equipment (MDE): None

Non-MDE: Refurbishment of the Oliver Hazard Perry Class ship, ex ROBERT G. BRADLEY (FFG 49), spares, support, training, publications, and other related elements of logistics and program support.

(iv) Military Department: Navy (BA-P-SAT)

(v) Prior Related Cases, if any: BA-P-GAL and BA-P-GAV

(vi) Sales Commission, Fee, etc., Paid, Offered, or Agreed to be Paid: None

(vii) Sensitivity of Technology Contained in the Defense Article or Defense Services Proposed to be Sold: None

(viii) Date Report Delivered to Congress: October 22, 2019

* As defined in Section 47(6) of the Arms Export Control Act.

POLICY JUSTIFICATION

Bahrain—Refurbishment of the Oliver Hazard Perry Class Ship, Ex ROBERT G. BRADLEY (FFG 49)

The Government of Bahrain has requested refurbishment of the Oliver Hazard Perry Class ship, ex ROBERT G. BRADLEY (FFG 49), spares, support, training, publications, and other related elements of logistics and program support. The estimated cost is $150 million.

This proposed sale will support the foreign policy and national security of the United States by helping to improve the security of an important ally which is a force for political stability and economic progress in the Middle East. This sale is consistent with U.S. initiatives to provide key allies in the region with systems that will enhance interoperability with U.S. forces and increase security.

The proposed sale will refurbish and support the grant transfer of the Oliver Hazard Perry Class ship, ex ROBERT G. BRADLEY (FFG 49), which was authorized for transfer under Public Law 115-232, Section 1020. Bahrain already operates another Oliver Hazard Perry Class ship. Bahrain will have no difficulty absorbing these defense articles and services into its armed forces.

The proposed sale will not alter the basic military balance in the region.

The principal contractor supporting the refurbishment has not yet been selected for this potential sale. There are no known offset agreements proposed in connection with this potential sale.

Implementation of this proposed sale will not require the assignment of any U.S. Government or contractor representatives to Bahrain.

There will be no adverse impact on U.S. defense readiness as a result of this proposed sale.

[FR Doc. 2019-27981 Filed 12-26-19; 8:45 am]

BILLING CODE 5001-06-P